FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than December 14, 2000.

A. Federal Reserve Bank of New York (Betsy Buttrill White, Senior Vice President) 33 Liberty Street, New York, New York 10045-0001:

1. Israel Salt Industries, Ltd., Atlit, Israel, through its direct and indirect control of 45.25 percent of the voting shares of Bank Hapoalim B.M., Tel Aviv, Israel; to become a bank holding company as a result of the establishment by Bank Hapoalim of Signature Bank, New York, New York (in formation). Signature Bank would be a wholly owned subsidiary of Bank Hapoalim.

B. Federal Reserve Bank of Richmond (A. Linwood Gill, III, Vice President) 701 East Byrd Street, Richmond, Virginia 23261-4528:

1. F&M National Corporation, Winchester, Virginia; to merge with Community Bankshares of Maryland, Inc., Bowie, Maryland, and thereby indirectly acquire Community Bank of Maryland, Bowie, Maryland.

2. Virginia Capital Bancshares, Inc., Fredericksburg, Virginia; to become a bank holding company by acquiring 100 percent of the voting shares of Fredericksburg State Bank, Fredericksburg, Virginia.

C. Federal Reserve Bank of Chicago (Phillip Jackson, Applications Officer) 230 South LaSalle Street, Chicago, Illinois 60690-1414:

1. Northstar Financial Group, Inc, Bad Axe, Michigan; to become a bank holding company by acquiring 100 percent of the voting shares of Northstar Bank (in organization), Bad Axe, Michigan.

D. Federal Reserve Bank of St. Louis (Randall C. Sumner, Vice President) 411 Locust Street, St. Louis, Missouri 63166-2034:

1. Mississippi Valley Bancshares, Inc., St. Louis, Missouri; to acquire 100 percent of the voting shares of Southwest Bank of Phoenix (in organization), Phoenix, Arizona. Comments regarding this application must be received not later than December 11, 2000.

E. Federal Reserve Bank of Kansas City (D. Michael Manies, Assistant Vice President) 925 Grand Avenue, Kansas City, Missouri 64198-0001:

1. Lauritzen Corporation, Omaha, Nebraska; to become a bank holding company by acquiring 21.09 percent of the voting shares of First National of Nebraska, Inc., Omaha, Nebraska, and thereby indirectly acquire voting shares of First National Bank of Omaha, Omaha, Nebraska; First National Bank & Trust Company of Columbus, Columbus, Nebraska; First National Bank, North Platte, Nebraska; First National Bank, South Dakota, Yankton, South Dakota; Platte Valley State Bank & Trust Company, Fremont, Nebraska; Fremont National Bank & Trust Company, Fremont, Nebraska; First National Bank of Kansas, Overland Park, Kansas; and First National of Colorado, Inc., Fort Collins, Colorado; and thereby acquire First National Bank, Fort Collins, Colorado; Bank in Boulder, Boulder, Colorado; and Union Colony Bank, Greeley, Colorado.

Board of Governors of the Federal Reserve System, November 14, 2000.
Robert deV. Frierson,
Associate Secretary of the Board.

[FR Doc. 00-29526 Filed 11-16-00; 8:45 am]

BILLING CODE 6210-01-P